DEPARTMENT OF TRANSPORTATION

Federal Aviation Administration

RTCA Program Management Committee; Meeting

AGENCY: Federal Aviation Administration (FAA), U.S. Department of Transportation (DOT).

ACTION: Notice of RTCA Program Management Committee meeting.

SUMMARY: The FAA is issuing this notice to advise the public of a meeting of RTCA Program Management Committee.

DATES: The meeting will be held October 8, 2013 from 8:30 a.m.-1:30 a.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

October 8, 2013

• Welcome and Introductions.

• Review/Approve Meeting Summary.

• August 12, 2013, RTCA Paper no. 203-13/PMC-1129.

• Publication Consideration/Approval.

• Final Draft, New Document, Aeronautical Mobile Airport Communications System (AeroMACS) Profile, RTCA Paper No. 199-13/PMC-1125, prepared by SC-223

• Final Draft, New Document, Minimum Operational Performance Standards (MOPS) for the Aeronautical Mobile Airport Communication System (AeroMACS), RTCA Paper No. 200-13/PMC-1126, prepared by SC-223.

• Final Draft, Revised Document, DO-230C—Integrated Security System Standard for Airport Access Control, RTCA Paper No. 204-13/PMC-1130, prepared by SC-224.

• Final Draft, New Document, Minimum Operational Performance Standards for Small and Medium Sized Rechargeable Lithium Batteries and Battery Systems, RTCA Paper No. 202-13/PMC-1127, prepared by SC-225.

• Integration and Coordination Committee (ICC).

• Action Item Review.

• SC-228—Minimum Performance Standards for Unmanned Aircraft Systems—Discussion—Revised Terms of Reference.

• PMC Ad Hoc—Standards Overlap and Alignment—Discussion—Status.

• PMC Ad Hoc—Part 23 ARC Report—Areas/Recommendations for RTCA Support—Discussion—Status.

• RTCA Policy on Propriety Information—Discussion.

• Discussion.

• SC-206—Aeronautical Information Services (AIS) and Meteorological Data Link Services—Discussion—Revised Terms of Reference.

• SC-222—Inmarsat AMS(R)S—Discussion—Revised Terms of Reference.

• NAC—Status Update.

• FAA Actions Taken on Previously Published Documents—Report.

• Special Committees—Chairmen's Reports and Active Inter-Special Committee Requirements Agreements (ISRA)—Review.

• European/EUROCAE Coordination—Status Update.

• Other Business.

• Schedule for Committee Deliverables and Next Meeting Date.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 11, 2013.
Paige Williams,
Management Analyst, NextGen, Business Operations Group, Federal Aviation Administration.

[FR Doc. 2013-22861 Filed 9-18-13; 8:45 am]

BILLING CODE 4910-13-P